ENVIRONMENTAL PROTECTION AGENCY

[FRL-9841-5]

Proposed Agreement Regarding Site Costs and Covenants Not To Sue for American Lead and Zinc Mill Site, Ouray County, Colorado

AGENCY: Environmental Protection Agency (EPA).

ACTION: Notice; request for public comment.

SUMMARY: In accordance with section 122(i) of the Comprehensive Environmental Response Compensation, and Liability Act of 1980, as amended (“CERCLA”), 42 U.S.C. 9622(h)(1), notice is hereby given of the proposed administrative settlement agreement (Settlement Agreement) under section 122(h) of CERCLA, 42 U.S.C. 9622(h) between the EPA and The Blue Tee Corporation (hereinafter referred to as the “the Settling Party”). The Settlement Agreement provides for Settling Party's payment of certain response costs incurred at the American Lead and Zinc Mill Superfund Site near Ouray, Colorado.

The Settling Party will pay within 30 days after the effective date of this Settlement Agreement ($1,630,764), plus an additional sum for interest on that amount calculated from April 1, 2012 through the date of payment.

In accordance with Section 122(i) of CERCLA, this notice is being published to inform the public of the proposed Settlement Agreement and of the opportunity to comment. For thirty (30) days following the date of publication of this notice, EPA will receive written comments relating to the proposed Settlement Agreement. EPA will consider all comments received and may modify or withdraw its consent to the settlement if comments received disclose facts or considerations that indicate that the proposed settlement is inappropriate, improper or inadequate.

DATES: Comments must be received by September 3, 2013.

ADDRESSES: Comments should be sent Michael Rudy, Senior Enforcement Specialist (Mail Code ENF-RC), Environmental Protection Agency, Region 8, 1595 Wynkoop Street, Denver, Colorado 80202-1129, (303) 312-6332 or via electric mail at rudy.mike@epa.gov and should reference the American Lead and Zinc Mill Site, the EPA Docket No. CERCLA-08-2013-0004. The Agency's response to any comments, the proposed agreement and additional background information relating to the agreement is available for public inspection at the EPA Superfund Record Center, 1595 Wynkoop Street, Denver, Colorado 80202-1129, during normal business hours.

FOR FURTHER INFORMATION CONTACT: Richard Sisk, Senior Enforcement Attorney, Environmental Protection Agency, Region 8, Mail Code 8ENF-LEP, 1595 Wynkoop Street, Denver, Colorado 80202-1129, (303) 312-6638 or via electric mail at sisk.richard@epa.gov.

Dated: July 23, 2013.
Andrew M. Gaydosh,
Assistant Regional Administrator, Office of Enforcement, Compliance and Environmental Justice, EPA, Region 8.

[FR Doc. 2013-18549 Filed 8-1-13; 8:45 am]

BILLING CODE 6560-50-P